DEPARTMENT OF EDUCATION

[Docket No.: ED-2024-SCC-0032]

Agency Information Collection Activities; Submission to the Office of Management and Budget for Review and Approval; Comment Request; School Pulse Panel 2024-25 Data Collection

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before June 20, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, (202) 245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: School Pulse Panel 2024-25 Data Collection.

OMB Control Number: 1850-0969.

Type of Review: Revision of a currently approved ICR.

Respondents/Affected Public: State, Local, and Tribal Governments.

Total Estimated Number of Annual Responses: 53,955.

Total Estimated Number of Annual Burden Hours: 10,175.

Abstract: The School Pulse Panel (SPP) is a data collection that was originally designed to collect voluntary responses from a nationally representative sample of public schools to better understand how schools, students, and educators were responding to the ongoing stressors of the coronavirus pandemic. Due to the immediate need to collect information from schools during the pandemic to satisfy the requirement of Executive Order 14000, an emergency clearance was issued to develop and field the first several monthly collections of the SPP in 2021 and a full review of the SPP data collection was performed under the traditional clearance review process in 2022 (OMB#1850-0969). SPPs innovative design and timely dissemination of findings have been used and cited frequently among Department of Education senior leadership, the White House Domestic Policy Council, the USDAs Food and Nutrition Service, the Centers for Disease Control and Prevention, Congressional deliberations, and the media. The ongoing, growing interest by stakeholders resulted in the request for dedicated funding to create an established NCES quick-turnaround data collection vehicle to become a mainstay for NCES. Funding for a mainstay collection was approved in late 2022, and NCES conducted a new collection during the 2023-24 school year. The purpose of this request is for a full review of the 2024-25 SPP data collection under the traditional clearance review process.

For the 2024-25 school year, the survey will ask school staff about a wide range of topics, including, but not limited to, staffing, learning recovery, tutoring, usage of federal funds, facilities, transportation, school environment issues, and overall principal and staff experiences, in addition to repeating items from the previous collections. It is planned that some new content will be rotated in (and some rotated out) monthly. This package includes details regarding the methodology and operations, as well as potential content areas and an item bank of potential items that can be asked any month.

The School Pulse Panel study is one of the few reliable, nationally representative, quick-turnaround studies that produces data on U.S. public schools. The sample design for the 2024-25 collection will roughly be the same as the 2023-24 collection, with 4,000 public elementary, middle, high, and combined-grade schools in an initial sample and 4,000 public elementary, middle, high, and combined-grade schools in a reserve sample. These schools will be selected via a random stratified sampling approach.

This submission has undergone a 60-day public comment period and is now submitted for an additional 30-day public comment period. We have made revisions to all documents that are part of this request. We have added instruments for the August, September, and October 2024 surveys (Appendix C1) and split the Item Bank into two parts; Appendix B1 will be an item bank for the current administration SPP 2024-2025, while Appendix B2 contains all questionnaires from previous administrations, including all items that may be revived in future months of SPP 2024-25. Items in Appendix C1 are currently being tested and are considered draft until the testing is complete; final items will be submitted to OMB through a change request. Subsequent quarterly instruments will also be posted for 30-day comment in the months immediately preceding their administration, potentially followed by change requests to allow for small changes in items as deemed necessary by cognitive testing.

Dated: May 15, 2024.
Stephanie Valentine,
PRA Coordinator, Strategic Collections and Clearance, Governance and Strategy Division, Office of Chief Data Officer, Office of Planning, Evaluation and Policy Development.

[FR Doc. 2024-10973 Filed 5-17-24; 8:45 am]

BILLING CODE 4000-01-P